ENVIRONMENTAL PROTECTION AGENCY

[EPA-HQ-OAR-2006-0597; FRL-8204-5]

Proposed Approval of the Advanced Mixed Waste Treatment Project's Transuranic Waste Characterization Program at Idaho National Laboratory

AGENCY: Environmental Protection Agency.

ACTION: Notice of availability; opening of public comment period.

SUMMARY: The Environmental Protection Agency (“EPA” or “we”) is announcing the availability of, and soliciting public comments for 45 days on, the proposed approval of the radioactive, transuranic (“TRU”) waste characterization program implemented by the Advanced Mixed Waste Treatment Project (“AMWTP”) at Idaho National Laboratory (“INL”). This waste is intended for disposal at the Waste Isolation Pilot Plant (“WIPP”) in New Mexico. In accordance with the WIPP Compliance Criteria, EPA evaluated the AMWTP/INL's characterization of TRU debris and solid waste from AMWTP/INL during an inspection conducted March 27-March 31, 2006. Using the systems and processes developed as part of the Department of Energy's (“DOE's”) Carlsbad Field Office (“CBFO”), EPA verified whether DOE could adequately characterize TRU waste consistent with the Compliance Criteria. The results of EPA's evaluation of the AMWTP/INL program and the proposed approval are described in EPA's inspection report, which is available for review in the public dockets listed in ADDRESSES. We will consider public comments received on or before the due date mentioned in DATES.

This notice summarizes the waste characterization processes evaluated by EPA and EPA's proposed approval. As required by 40 CFR 194.8, at the end of a 45-day comment period, EPA will evaluate public comments received, finalize the report responding to the relevant public comments, and issue the final report and an approval letter to DOE's CBFO. Based on previous EPA inspections and approvals, AMWTP/INL is currently approved to dispose of debris and solid waste at WIPP. AMWTP/INL is permitted to continue waste characterization and disposal in accordance with prior site approvals while EPA establishes a baseline approval.

DATES: Comments must be received on or before September 14, 2006.

ADDRESSES: Submit your comments, identified by Docket ID No. EPA-HQ-OAR-2006-0597, by one of the following methods:

• www.regulations.gov: Follow the on-line instructions for submitting comments.

• E-mail: to a-and-r-docket@epa.gov

• Fax: 202-566-1741

• Mail: Air and Radiation Docket and Information Center, Environmental Protection Agency, Mailcode: 6102T, 1200 Pennsylvania Ave., NW., Washington, DC 20460.

Instructions: Direct your comments to Attn: Docket ID No. EPA-HQ-OAR-2006-0597. The Agency's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically at www.regulations.gov or in hard copy at the Air and Radiation Docket in the EPA Docket Center, (EPA/DC) EPA West, Room B102, 1301 Constitution Ave., NW., Washington, DC. The EPA Docket Center Public Reading Room is open from 8:30 a.m. to 4:30 p.m., Monday through Friday, excluding legal holidays. The telephone number for the Public Reading Room is 202-566-1744, and the telephone number for the Air and Radiation Docket is (202) 566-1742. These documents are also available for review in hard-copy form at the following three EPA WIPP informational docket locations in New Mexico: In Carlsbad at the Municipal Library, Hours: Monday-Thursday, 10 a.m.-9 p.m., Friday-Saturday, 10 a.m.-6 p.m., and Sunday, 1 p.m.-5 p.m., phone number: 505-885-0731; in Albuquerque at the Government Publications Department, Zimmerman Library, University of New Mexico, Hours: Vary by semester, phone number: 505-277-2003; and in Santa Fe at the New Mexico State Library, Hours: Monday-Friday, 9 a.m.-5 p.m., phone number: 505-476-9700. As provided in EPA's regulations at 40 CFR Part 2, and in accordance with normal EPA docket procedures, if copies of any docket materials are requested, a reasonable fee may be charged for photocopying.

FOR FURTHER INFORMATION CONTACT: Rajani Joglekar, Radiation Protection Division, Center for Federal Regulations, Mail Code 6608J, U.S. Environmental Protection Agency, 1200 Pennsylvania Avenue, Washington, DC 20460; telephone number: 202-343-9601; fax number: 202-343-2305; e-mail address: joglekar.rajani@epa.gov.

SUPPLEMENTARY INFORMATION:

I. General Information

A. What Should I Consider as I Prepare My Comments for EPA?

1. Submitting CBI. Do not submit this information to EPA through www.regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify the rulemaking by docket number and other identifying information (subject heading, Federal Register date and page number).

• Follow directions—The agency may ask you to respond to specific questions or organize comments by referencing a Code of Federal Regulations (CFR) part or section number.

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

II. Background

DOE is developing the WIPP near Carlsbad in southeastern New Mexico as a deep geologic repository for disposal of TRU radioactive waste. As defined by the WIPP Land Withdrawal Act (LWA) of 1992 (Pub. L. 102-579), as amended (Pub. L. 104-201), TRU waste consists of materials containing processes having atomic numbers greater than 92 (with half-lives greater than twenty years), in concentrations greater than 100 nanocuries of alpha-emitting TRU isotopes per gram of waste. Much of the existing TRU waste consists of items contaminated during the production of nuclear weapons, such as rags, equipment, tools, and sludges.

On May 13, 1998, EPA announced its final compliance certification decision to the Secretary of Energy (published May 18, 1998, 63 FR 27354). This decision stated that the WIPP will comply with EPA's radioactive waste disposal regulations at 40 CFR part 191, Subparts B and C.

The final WIPP certification decision includes conditions that (1) prohibit shipment of TRU waste for disposal at WIPP from any site other than the Los Alamos National Laboratories (LANL) until the EPA determines that the site has established and executed a quality assurance program, in accordance with §§ 194.22(a)(2)(i), 194.24(c)(3), and 194.24(c)(5) for waste characterization activities and assumptions (Condition 2 of Appendix A to 40 CFR part 194); and (2) (with the exception of specific, limited waste streams and equipment at LANL) prohibit shipment of TRU waste for disposal at WIPP (from LANL or any other site) until EPA has approved the procedures developed to comply with the waste characterization requirements of § 194.22(c)(4) (Condition 3 of Appendix A to 40 CFR part 194). The EPA's approval process for waste generator sites is described in § 194.8.

In July 2004, EPA promulgated changes to the “Criteria for the Certification and Recertification of the Waste Isolation Pilot Plant's Compliance with Disposal Regulations” (69 FR 42571-42583, July 16, 2004). These changes went into effect October 14, 2004, which modified the EPA approval of waste characterization (“WC”) programs at DOE's TRU waste sites. These revisions provide equivalent or improved oversight and better prioritization of technical issues in EPA inspections to evaluate WC activities at DOE WIPP waste generator sites, and also offer more direct public input into the Agency's decisions about what waste can be disposed of at WIPP. They do not modify the technical approach that EPA has employed since the 1998 WIPP Certification Decision.

Condition 3 of the WIPP Certification Decision requires that EPA conduct independent inspections at DOE's waste generator/storage sites of their TRU waste characterization capabilities before approving their program and the waste for disposal at the WIPP. The revised inspection and approval process gives EPA greater (a) discretion in establishing technical priorities, (b) ability to accommodate variation in the site's waste characterization capabilities, and (c) flexibility in scheduling site WC inspections. The § 194.8 changes require that EPA conduct a baseline inspection at every previously approved TRU site (such as AMWTP/INL). EPA expects that within two years after the effective date of October 2004 most of the previously approved TRU sites (such as Hanford, Los Alamos CCP, and Savannah River Site CCP) will undergo EPA baseline inspections. Following these inspections, the Agency will issue a new baseline compliance decision for these sites.

As part of the baseline inspection, EPA must evaluate each WC process component (equipment, procedures, and personnel training/experience) for its adequacy and appropriateness in characterizing TRU waste destined for the disposal at WIPP. During the inspection, the site demonstrates its capabilities to characterize TRU waste(s) and its ability to comply with the regulatory limits and tracking requirements under § 194.24. The baseline inspection can result in approval with limitations/conditions or may require follow-up inspection(s) before approval. The approval must specify what subsequent WC program changes or expansion should be reported to EPA. The Agency is required to assign Tier 1 (“TI”) and Tier 2 (“T2”) to the reportable changes depending on their potential impact on data quality. A T1 designation requires that the site must notify EPA of proposed changes to the approved components of an individual WC process (such as radioassay equipment or personnel), and EPA must also approve the change before it can be implemented. A WC element with a T2 designation allows the site to implement changes to the approved components of individual WC processes (such as visual examination procedures) but requires EPA notification. The Agency may choose to inspect the site to evaluate technical adequacy before approval. EPA inspections conducted to evaluate T1 or T2 changes are follow-up inspections under the authority of § 194.24(h). In addition to the follow-up inspections, if warranted, EPA may opt to conduct continued compliance inspections at TRU waste sites with a baseline approval under the authority of § 194.24(h).

The revisions to the site inspection and approval process outlined in § 194.8 require EPA to issue a Federal Register notice proposing the baseline compliance decision, docket the inspection report for public review, and seek public comment on the proposed decision for a period of 45 days. The report must describe the WC processes EPA inspected at the site, as well as their compliance with § 194.24 requirements.

III. Proposed Baseline Compliance Decision

From March 27—March 31, 2006, EPA performed a baseline inspection of TRU waste characterization activities of DOE's AMWTP at INL (EPA Inspection No. EPA-AMWTP-03.06-8).

The purpose of EPA's inspection was to verify that AMWTP is characterizing CH TRU retrievably-stored debris waste (S5000) and solid waste (S3000), as well as CH TRU newly-generated debris waste (S5000), from INL properly and in compliance with the regulatory requirements at 40 CFR 194.24. During the inspection, EPA also evaluated AMWTP's use of the WIPP Waste Information System (“WWIS”) for tracking the contents of CH TRU waste containers destined for disposal at WIPP. This tracking ensures that the volume emplaced in the WIPP repository and characteristics of the emplaced wastes conform to the requirements of the WIPP LWA and the specific conditions of the WIPP Certification Decision.

During the inspection, EPA evaluated the adequacy, implementation, and effectiveness of AMWTP/INL's waste characterization activities. The Agency's evaluation focused on the individual components—equipment, procedures, and personnel training/experience of the following waste characterization processes: acceptable knowledge (“AK”), nondestructive assay (“NDA”), visual examination techniques (“VET”), visual examination/real-time radiography (“VE/RTR”), load management, and the WWIS. The overall program adequacy and effectiveness of AMWTP/INL was based on DOE-provided upper-tier documents.

EPA evaluated the waste characterization processes at AMWTP/INL for specific CH TRU waste categories, as follows:

• Acceptable knowledge (AK) and load management for CH retrievably-stored and newly-generated TRU debris waste (S5000) and retrievably-stored solids (S3000)

• Visual examination technique (VET) for CH newly-generated debris waste (S5000)

• Visual examination (VE) as quality control (QC) check of real-time radiography (RTR) and VE in lieu of RTR for CH retrievably-stored TRU debris waste (S5000) and solids (S3000)

• RTR for CH retrievably-stored TRU debris waste (S5000) and solids (S3000)

• Nondestructive assay (NDA) and the WIPP Waste Information System (WWIS) for CH retrievably-stored and newly-generated TRU debris waste (S5000) and retrievably-stored solids (S3000) for Integrated Waste Assay System (IWAS) units Z-211-102 and -103, and CH retrievably-stored and newly-generated TRU debris waste (S5000) only for IWAS units Z-390-100 and -101

• Debris waste that has been removed from standard waste boxes and damaged 55-gallon drums, repackaged in 55-gallon drums for supercompaction

Four NDA IWAS units were evaluated. IWAS units Z-211-102 and -103 were evaluated for characterizing debris (S5000) and solid (S3000) wastes. IWAS units Z-390-100 and 101 were evaluated for characterizing debris (S5000) only.

In addition to reviewing individual components (namely, procedures, and equipment) of each of the WC processes (AK, NDA, VET, VE/RTR, load management, and the WWIS), the Agency interviewed and reviewed training records of personnel responsible for compiling data, analyzing waste contents, operating equipment, and preparing data for WWIS tracking. EPA also required radioassay replicate analysis on selected containers from the population of previously analyzed waste containers on the same system or instrument for the two different waste categories. The purpose of this replicate testing is to provide EPA with an independent means to verify that the radioassay equipment being assessed for approval can provide consistent, reproducible results for the determination of the quantity of 10 WIPP-tracked radionuclides (241Am, 137Cs, 238Pu, 239Pu, 240Pu, 242Pu, 90Sr, 233U, 234U, and 238U) as well as TRU alpha concentration. The results of the replicate analysis help EPA to determine whether:

• The instrument produces results consistent with the reported total measurement uncertainty (“TMU”) by comparing the sample standard deviation for a number of replicate measurements taken over several hours or days to the reported TMU.

• The instrument provides reproducible results over longer periods of time, such as weeks or months, by comparing the results of the replicate measurement(s) to the original reported values.

EPA's inspection team did not identify any findings or concerns during the inspection, and determined that AMWTP/INL's WC program activities were technically adequate. EPA is proposing to approve the AMWTP—INL WC program in the configuration observed during this inspection and described in this report and in the checklists in Attachment A. This proposed approval includes the following waste characterization activities:

(1) The AK and load management process for CH retrievably-stored TRU debris and solids.

(2) Two NDA systems (IWAS units Z-211-102 and Z-211-103) for assaying CH retrievably-stored or newly-generated debris and solid wastes in both 55- and 85-gallon containers.

(3) Two NDA systems (IWAS units Z-390-100 and Z-390-101) for assaying only CH retrievably-stored or newly-generated debris wastes in 55-gallon containers.

(4) VE as a QC check of the RTR process for retrievably-stored debris and solid wastes, including VE performed in lieu of RTR.

(5) The VET process for newly-generated debris wastes.

(6) RTR for retrievably-stored S5000 debris and S4000 solid wastes.

(7) The WWIS for the purpose of data transfer and tracking waste contents of debris and solid wastes including 100-gallon overpack containers.

As required by the new § 194.8 revisions, EPA has assigned specific requirements for reporting changes to an approved waste characterization program. As seen from the table below, Tier 1 changes require EPA approval prior to implementation of the change and may require EPA inspection to determine technical adequacy. Tier 2 changes may be implemented prior to EPA approval; however, this type of change must be reported to EPA quarterly. Any changes to WC activities from the date of the baseline inspection must be reported to and, if applicable, approved by EPA, according to the following table:

Table 1.—Proposed Tiering of TRU WC Processes Implemented by AMWTP
[Based on March 28-30, 2006, Baseline Inspection]
WC process elements | AMWTP WC process specific T1 changes | AMWTP WC process specific T2 changes* | AMWTP general T2 changes*
AK including Load Management | Any new waste category Changes to WWIS algorithms specific to load management | Waste Stream Profile Forms, including updates or additions to waste stream(s) within an approved waste category (see Section 8.1) Changes in load management status of approved waste stream(s) | Changes to site procedures requiring approvals by the Carlsbad Field Office (CBFO) and other changes as discussed in Section 8.1 of this report.
NDA | New equipment or physical modifications to approved equipment.** Changes to approved calibration range for approved equipment (see Section 8.2). | Changes to software for approved equipment (see Section 8.2) Changes to operating range(s) upon CBFO approval | Changes to site procedures requiring CBFO approvals and other changes as discussed in Section 8.2 of this report.
RTR | N/A | New equipment or changes to approved equipment | Changes to site procedures requiring CBFO approvals and other changes as discussed in Section 8.3 of this report.
VE and VET | Changes in vendor performing VE and/or VET | Addition of new waste category Addition of new procedure or site equipment identifier | Changes to site procedures requiring CBFO approvals and other changes as discussed in Section 8.4 of this report.
WWIS | N/A | N/A | Changes to site procedures requiring CBFO approvals and other changes as discussed in Section 8.5 of this report.
* Upon receiving EPA approval, AMWTP will report all T2 changes to EPA every three months.
** Modifications to approved equipment include all changes with the potential to affect NDA data relative to waste isolation, and exclude minor changes such as the addition of safety-related equipment.

EPA will notify the public of its evaluation results for proposed Tier 1 (T1) and Tier 2 (T2) changes on the EPA Web site and by sending e-mails to the WIPP-NEWS list (see Section 2.0, below, for a brief discussion of tiering). All T1 changes that are submitted for approval before their implementation will be evaluated by EPA and, upon approval, EPA will post the evaluation results on the EPA Web site and the WIPP-NEWS list, as described above. EPA will post T2 changes approximately every three months beginning with the date of EPA's approval of the TRU WC program implemented at AMWTP/INL. EPA expects the first report of T2 changes at AMWTP/INL approximately three months from the FR notice accompanying this report.

The scope of the AMWTP baseline is based on EPA's inspection of the WC system of controls. EPA will not approve any changes to the AMWTP program until after EPA issues the baseline approval. AMWTP is currently approved to dispose of retrievably-stored and newly-generated debris (S5000) and retrievably-stored solid (S3000) wastes at the WIPP, and AMWTP is permitted to continue WC and disposal in accordance with prior site approvals during the period before EPA approves the final baseline.

IV. Availability of the Baseline Inspection Report for Public Comment

EPA has placed the report discussing the results of EPA's inspection of AMWTP at INL in the public docket as described in ADDRESSES. In accordance with 40 CFR 194.8, EPA is providing the public 45 days to comment on these documents. The Agency requests comments on the tiering designations and the proposed approval decision. EPA will accept public comment on this notice and supplemental information as described in Section 1.B. above. The EPA will not make a determination of compliance before the 45-day comment period ends. At the end of the public comment period, EPA will evaluate all relevant public comment and revise the inspection report as necessary. The Agency will then issue an approval letter and the final inspection report, both of which will be posted on the WIPP Web site. The letter of approval will allow AMWTP to use the approved TRU waste characterization processes to characterize waste at INL.

Information on the certification decision is filed in the official EPA Air Docket, Docket No. A-93-02 and is available for review in Washington, DC, and at the three EPA WIPP informational docket locations in New Mexico (as listed in ADDRESSES). The dockets in New Mexico contain only major items from the official Air Docket in Washington, DC, plus those documents added to the official Air Docket since the October 1992 enactment of the WIPP LWA.

Dated: July 11, 2006.
Barnes Johnson,
Acting Director, Office of Radiation and Indoor Air.

[FR Doc. E6-12215 Filed 7-28-06; 8:45 am]

BILLING CODE 6560-50-P